Proclamation 10794 of August 23, 2024

Women's Equality Day, 2024

By the President of the United States of America

A Proclamation

One hundred and four years ago, American women won the right to vote with the ratification of the 19th Amendment, bringing us closer to living up to our Nation's most fundamental values of dignity, fairness, freedom, and equality. On Women's Equality Day, we recognize the courage of generations of visionaries who fought tirelessly for the sacred cause of women's suffrage and all those who continue to work toward a more equitable future for women and girls in America.

The 19th Amendment marked a critical milestone in our Nation's history, but it did not guarantee the right to vote for all. For many women of color, that right would not be secured until decades later when the Voting Rights Act was passed in 1965. Today, our Nation is still facing relentless assaults on the sacred right to vote freely and fairly and to have every vote count. At the same time, women's fundamental rights are under attack, which undermines our democracy and our freedoms. These challenges serve as a critical reminder that our work as a Nation is never done—realizing the full promise of the 19th Amendment is as important today as ever before.

My Administration is committed to upholding the vision of suffragists, who understood that equality at the ballot box was a critical step to advancing rights and opportunities for American women. Over the past three and a half years, Vice President Harris and I have leveraged the full force of the Federal Government to protect those rights and remove barriers that prevent women and girls from reaching their full potential. We are defending reproductive freedom, delivering the highest women's prime-age labor force participation and the narrowest gender pay gap on record, making historic investments in the care economy, fighting to end violence against women, increasing access to educational opportunity, and promoting women's representation, leadership, and human rights here at home and around the globe.

Guaranteeing women access to affordable, quality health care has also been a top priority for my Administration. That is why we have been working to address the maternal health crisis, with Vice President Kamala Harris announcing our Blueprint for Addressing the Maternal Health Crisis. Furthermore, in addition to issuing an Executive Order directing the most comprehensive set of executive actions to expand research on women's health, last year the First Lady and I were proud to launch the first-ever White House Initiative on Women's Health Research, and the Advanced Research Projects Agency for Health has dedicated $100 million to solve challenges in women's health. As part of the Biden Cancer Moonshot, we are taking significant actions to save and improve the lives of the millions of American women facing cancer. During my first year in office, we expanded coverage under the Affordable Care Act, which requires insurers to pay for cancer screenings and primary care visits, including those that will detect cancer early when outcomes are best. Furthermore, I have taken action to safeguard access to reproductive care—and the Vice President and I will keep calling on the Congress to restore Roe v. Wade as the law of the land. Americans show time and again that they agree that health care decisions should be made by a woman with the help of her doctor, not politicians—and we will continue fighting to ensure that women can access the health care they need in every State.

To be the strongest economy in the world, we cannot leave women—who make up half our workforce—behind. Through our American Rescue Plan, my Administration made the biggest investment in child care ever, helping over 225,000 child care programs that serve 10 million children across the country keep their doors open and enabling parents, especially mothers, to enter or remain in the workforce. We have taken steps to advance pay equity and transparency for Federal employees and contractors, eliminating practices that allow pay discrimination to follow workers from job to job and helping workers better negotiate and reduce pay inequities. We are also ensuring that women have access to the millions of good-paying jobs created by the Bipartisan Infrastructure Law, the CHIPS and Science Act, and the Inflation Reduction Act.

Women and girls deserve to live free from violence and fear. Next month marks 30 years since the Congress passed the Violence Against Women Act (VAWA)—a historic law that I championed and wrote. VAWA gave our Government more comprehensive tools to prevent and prosecute sexual assault, provide support for survivors, and save countless women's lives. Today, this law, which I reauthorized in 2022, has record funding levels and grant programs. In addition, my Administration is working to address online harassment and abuse, including image-based sexual abuse generated by artificial intelligence. And we restored and strengthened vital protections under Title IX for students who have experienced campus sexual assault and other forms of sex discrimination in schools and universities.

Since I took office, I have been proud to serve alongside the first woman ever elected as Vice President, Kamala Harris, and to have appointed women to the highest levels of my Administration, including a record number of female Cabinet Secretaries. I established the White House Gender Policy Council to advance the rights of women and girls at home and abroad. My Administration released the first-ever National Strategy on Gender Equity and Equality. And during Women's History Month this year, I signed an Executive Order to increase the representation of women's history in the National Park System and to help honor the legacy and contributions of women and girls to our country.

My Administration will continue to fight for every American's sacred right to vote—carrying on the legacy of the suffragists we celebrate today. I continue to call on the Congress to pass the John Lewis Voting Rights Advancement Act and the Freedom to Vote Act to restore and expand access to the ballot and prevent voter suppression—because every American's voice deserves to be heard.

We are making tremendous progress, but more must be done to ensure equal rights and opportunity for women and girls. I urge the Congress to recognize the ratification of the Equal Rights Amendment and affirm the fundamental truth that all Americans should have equal rights and protections under the law. This Women's Equality Day, let us recommit to building a country and a world where our daughters have the same opportunities as our sons. Because when women thrive, we all thrive.

NOW, THEREFORE, I, JOSEPH R. BIDEN JR., President of the United States of America, by virtue of the authority vested in me by the Constitution and the laws of the United States, do hereby proclaim August 26, 2024, as Women's Equality Day. I call upon the people of the United States to celebrate and continue to build on our country's progress toward gender equality and to defend and strengthen the right to vote.

IN WITNESS WHEREOF, I have hereunto set my hand this twenty-third day of August, in the year of our Lord two thousand twenty-four, and of the Independence of the United States of America the two hundred and forty-ninth.

[FR Doc. 2024-19444

Filed 8-27-24; 8:45 am]

Billing code 3395-F4-P